DEPARTMENT OF TRANSPORTATION

Federal Aviation Administration

Onboard Recording of Data Communications in Crash Survivable Memory

AGENCY: Federal Aviation Administration (FAA), DOT.

ACTION: Notice of availability and request for public comment.

SUMMARY: This notice announces the availability of, and requests comment on, a draft advisory circular (AC) on aircraft data link recording systems in crash survivable memory. The AC offers one way to achieve minimum acceptable recording system performance and design approval objectives alluded to as part of the Notice of Proposed Rulemaking (NPRM), Docket Number FAA-2005-20245 on cockpit voice recorders and digital flight data recorders.

DATES: Comments must be received on or before (May 27, 2005).

ADDRESSES: Deliver all comments on this draft AC to: Federal Aviation Administration, Aircraft Certification Service, Aircraft Engineering Division, Avionic Systems Branch, AIR-130, Room 815, 800 Independence Avenue, SW., Washington, DC 20591. ATTN: Mr. Gregory Frye. You may deliver comments to: Federal Aviation Administration, Room 815, 800 Independence Avenue, SW., Washington, DC 20591.

FOR FURTHER INFORMATION CONTACT: Mr. Greg Frye, AIR-130, Room 815, Federal Aviation Administration, Aircraft Certification Service, Aircraft Engineering Division, 800 Independence Avenue, SW., Washington, DC 20591, Telephone (202) 385-4649, or Fax: (202) 385-4651 or e-mail: gregory.efrye@faa.gov.

SUPPLEMENTARY INFORMATION:

Comments Invited

You are invited to comment on the draft AC by submitting written data, views, or arguments to the above address. Comments received may be examined, both before and after the closing date, in Room 815 at the above address, weekdays except Federal holidays, between 8:30 a.m. and 4:30 p.m. The Director, Aircraft Certification Service, will consider all comments received on or before the closing date before issuing the final AC.

Background

This AC focuses on aircraft recording system performance and logical recording point locations for storing data communication information in onboard crash-survivable memory. Issuance of this AC is based in part, on recommendations received from the National Transportation Safety Board (NTSB), following investigations of several aircraft accidents and incidents. This AC provides guidelines to improve the quality and quantity of recorded in-flight information, allowing for an increase in the potential for the retention of important information needed during accident and incident investigations.

How To Obtain Copies

You can view or download the draft AC from its online location at: www.airweb.faa.gov/rgl. At this Web page, select “Draft Advisory Circulars.” For a paper copy, contact the person listed in for further information contact section of this notice.

Issued in Washington, DC, on April 21, 2005.
Susan J. M. Cabler,
Acting Manager, Aircraft Engineering Division Aircraft Certification Service.

[FR Doc. 05-8346 Filed 4-26-05; 8:45 am]

BILLING CODE 4910-13-M